DEPARTMENT OF THE INTERIOR

Bureau of Indian Affairs

Plan for the Use and Distribution of Pueblo of Isleta Judgment Funds in Docket No. 98-166L

AGENCY: Bureau of Indian Affairs, Interior.

ACTION: Notice.

SUMMARY: Notice is hereby given that the plan for the use and distribution of the judgment funds awarded to the Pueblo of Isleta (Pueblo) in Docket No. 98-166L is effective as of March 20, 2004. The judgment fund was awarded by the United States Court of Federal Claims on January 7, 2002, and appropriated on March 19, 2002.

FOR FURTHER INFORMATION CONTACT: Daisy West, Bureau of Indian Affairs, Division of Tribal Government Services, Mail Stop 320-SIB, 1951 Constitution Avenue, NW., Washington, DC 20240. Telephone number: (202) 513-7641.

SUPPLEMENTARY INFORMATION: On December 5, 2003, the plan for the use and distribution of the funds was submitted to Congress pursuant to Section 137 of the Act of November 10, 2003, Pub. L. 108-108, 117 Stat. 1241, and the Indian Tribal Judgment Fund Act, 25 U.S.C. 1401 et seq. Receipt of the plan by the House of Representatives and the Senate was recorded in the Congressional Record on December 8, 2003, and January 20, 2004, respectively. The plan became effective on March 20, 2004, because a joint resolution disapproving it was not enacted. The plan reads as follows:

Plan

For the Use and Distribution of Pueblo of Isleta Judgment Funds in Docket No. 98-166L

The funds appropriated on March 19, 2002, in satisfaction of an award granted to the Pueblo of Isleta (Pueblo) in Docket 98-166L before the United States Court of Federal Claims, less attorney fees and litigation expenses, and including all interest and investment income accrued on the award net of fees and expenses fees and expenses (the “available funds”), shall be distributed as herein provided.

A. Per Capita Distribution.

One hundred (100%) percent of the available funds shall be distributed in the form of per capita payments in amounts as equal as practicable to all enrolled members of the Pueblo who are living on the date this plan becomes effective.

1. The Tribal Council shall prepare and certify to the Bureau of Indian Affairs a list of such persons eligible to participate in said per capita payments.

2. The per capita shares of living competent adults shall be paid directly to them.

3. The per capita shares of incarcerated members who are eligible for the per capita payment shall be either—

(a) Delivered to the incarcerated member or a designated representative at an address directed and authorized by the incarcerated member in writing; or

(b) Placed in Individual Indian Money (IIM) accounts, provided that the Pueblo provides a certified list of those individuals to the Bureau of Indian Affairs along with the written requests from those individuals requesting that their per capita funds be placed in a non-supervised IIM account.

4. The per capita shares of deceased individual beneficiaries shall be determined in accordance with 25 CFR part 15.

5. Per capita shares of legal incompetents and minors shall be handled as provided in 25 U.S.C. 1403(b)(3). The funds will be placed in IIM accounts and may be disbursed to the parents or legal guardian of such minors or legal incompetents in such amounts as may be necessary for the minor or legal incompetent's health, education, welfare, or emergencies under a plan or plans approved by the Secretary and the Tribal Council.

B. General Provisions.

Funds distributed under this plan shall not be liable for the payment of previously contracted obligations of any recipient as provided in 25 U.S.C. 117b(a). None of the funds distributed per capita or made available under this plan for programming shall be subject to Federal or State income taxes, nor shall such funds nor their availability be considered as income or resources nor otherwise utilized as the basis for denying or reducing the financial assistance or other benefits to which such household or member would otherwise be entitled under the Social Security Act, or except for per capita shares in excess of $2,000, any Federal or federally assisted programs.

Dated: October 21, 2004.
Michael D. Olsen,
Acting Principal Deputy, Assistant Secretary—Indian Affairs.

[FR Doc. 04-25045 Filed 11-9-04; 8:45 am]

BILLING CODE 4310-4J-P